NATIONAL ARCHIVES AND RECORDS ADMINISTRATION

36 CFR Part 1228

RIN 3095-AB02

Records Disposition

AGENCY: National Archives and Records Administration (NARA).

ACTION: Correcting amendment.

SUMMARY: This document corrects NARA's rule on disposition of Federal records by correcting a reference to a section that has been redesignated.

DATES: Effective on July 22, 2002.

FOR FURTHER INFORMATION CONTACT: Kim Richardson at telephone number 301-837-2902 or fax number 301-837-0319.

SUPPLEMENTARY INFORMATION: NARA redesignated certain sections in Part 1228 in a rulemaking on December 2, 1999 (64 FR 67667). We inadvertently failed to amend § 1228.42 to reflect the redesignation of a referenced section. This amendment makes that correction to the CFR.

List of Subjects in 36 CFR Part 1228

Archives and records.

Accordingly, 36 CFR part 1228 is corrected by making the following correcting amendment:

PART 1228—DISPOSITION OF FEDERAL RECORDS

1. The authority citation for Part 1228 continues to read as follows:

Authority: 44 U.S.C. chs. 21, 29, and 33.

§ 1228.42 [Amended].

2. In paragraph (d) of § 1228.42 revise the reference to “§ 1228.200” to read “§ 1228.282”.

Dated: July 15, 2002.
John W. Carlin,
Archivist of the United States.

[FR Doc. 02-18327 Filed 7-19-02; 8:45 am]

BILLING CODE 7515-01-P